FEDERAL RETIREMENT THRIFT INVESTMENT BOARD

Sunshine Act Meeting

TIME AND DATE: 9:00 a.m. (Eastern Time), May 21, 2012.

PLACE: 10th Floor Board Room, 77 K Street NE., Washington, DC 20002.

STATUS: Parts will be open to the public and parts will be closed to the public.

Matters To Be Considered

Parts Open to the Public

1. Approval of the Minutes of the April 30, 2012 Board Member Meeting

2. Thrift Savings Plan Activity Report by the Executive Director

a. Monthly Participant Activity Report

b. Monthly Investment Performance Report

c. Legislative Report

3. Roth Launch Update

Parts Closed to the Public

4. Security

5. Personnel

CONTACT PERSON FOR MORE INFORMATION: Kimberly Weaver, Director, Office of External Affairs, (202) 942-1640.

Dated: May 14, 2012.
James B. Petrick,
Secretary, Federal Retirement Thrift Investment Board.

[FR Doc. 2012-12022 Filed 5-15-12; 11:15 am]

BILLING CODE 6760-01-P